DEPARTMENT OF HOUSING AND URBAN DEVELOPMENT

[Docket No. FR-5544-D-06]

Redelegation of Authority for the Civil Rights Related Program Requirements of HUD Programs

AGENCY: Office of the Assistant Secretary for Fair Housing and Equal Opportunity, HUD.

ACTION: Notice of redelegation of authority.

SUMMARY: The Assistant Secretary for Fair Housing and Equal Opportunity (FHEO) supersedes all prior redelegations of authority made within the Office of the Assistant Secretary for FHEO regarding civil rights related program requirements (CRRPR) of HUD programs to FHEO staff and retains and redelegates this authority, with noted exceptions, to the General Deputy Assistant Secretary of FHEO, Deputy Assistant Secretary for Enforcement and Programs, Director of the Office of Programs, and the FHEO Region Directors.

DATES: Effective Date: November 16, 2011.

FOR FURTHER INFORMATION CONTACT: Sara K. Pratt, Deputy Assistant Secretary for Enforcement and Programs, Office of Fair Housing and Equal Opportunity, Department of Housing and Urban Development, 451 Seventh Street, SW Room 5204, Washington, DC 20410-0001, telephone (202) 402-6322. (This is not a toll-free number.) Hearing- and speech-impaired individuals may access this number through TTY by calling the toll-free Federal Relay Service at (800) 877-8339.

SUPPLEMENTARY INFORMATION: By separate notice published in today's Federal Register, the Secretary delegates to the Assistant Secretary for FHEO authority pertaining to civil rights statutes. Included in the consolidated delegation is certain authority regarding the Department's civil rights related program requirements. (60 FR 14294-01, March 16, 1995). In this notice, the Assistant Secretary for FHEO supersedes all prior redelegations of authority made within the Office of the Assistant Secretary for FHEO and retains and redelegates the authority regarding civil rights related program requirements of HUD programs to the General Deputy Assistant Secretary for FHEO, Deputy Assistant Secretary for Enforcement and Programs, Director of the Office of Programs and the FHEO Region Directors.

Accordingly, the Assistant Secretary for FHEO delegates authority as follows:

Section A. Authority Redelegated

With certain exceptions noted in Section B, the Assistant Secretary for FHEO retains and redelegates to the General Deputy Assistant Secretary for FHEO all authority delegated to the Assistant Secretary for FHEO regarding civil rights related program requirements of HUD programs. This includes the authority to further redelegate. The General Deputy Assistant Secretary retains and redelegates this authority to the Deputy Assistant Secretary for Enforcement and Programs, Director of the Office of Programs, and the FHEO Region Directors. In the event that the FHEO Region Director and the Field Office Program Official who has been redelegated authority to make funding decisions are not able to agree on the status of an applicant or participant with respect to a CRRPR, the matter shall be forwarded to Headquarters and the decision shall be made jointly by the Assistant Secretary for Fair Housing and Equal Opportunity and the Program Assistant Secretary with authority over the Field Office Program Official. If the Assistant Secretaries are unable to agree, the matter shall be resolved by the Secretary of HUD.

Section B. Exceptions to Redelegation

The authority delegated by the Assistant Secretary does not include the authority to issue or to waive regulations. The Authority redelegated from the General Deputy Assistant Secretary does not include the authority to further redelegate.

Section C. Authority Superseded

All prior redelegations of authority made by the Assistant Secretary for FHEO regarding civil rights related program requirements of HUD programs made within the Office of the Assistant Secretary for FHEO are superseded.

Authority: Section 7(d) of the Department of Housing and Urban Development Act, 42 U.S.C. 3535(d).

Dated: November 16, 2011.
John Trasviña,
Assistant Secretary for Fair Housing and Equal Opportunity.
Bryan Greene,
General Deputy Assistant Secretary for Fair Housing and Equal Opportunity.

[FR Doc. 2011-30760 Filed 11-28-11; 8:45 am]

BILLING CODE 4210-67-P